DEPARTMENT OF TRANSPORTATION

Office of the Secretary

[Docket No. DOT-OST-2024-0041]

Notice To Renew the Transforming Transportation Advisory Committee (TTAC)

AGENCY: Office of the Secretary (OST), Department of Transportation (DOT).

ACTION: Notice of the charter renewal of the Transforming Transportation Advisory Committee (TTAC), and TTAC Membership Balance Plan.

SUMMARY: The Office of the Secretary of Transportation (OST) issues this notice to clarify its renewal of the charter for TTAC.

DATES: The TTAC Charter will be effective for two years after date of publication of this Federal Register Notice.

FOR FURTHER INFORMATION CONTACT: TTAC Designated Federal Officer, c/o Benjamin Ross Levine, Director of Strategic Initiatives, Office of the Assistant Secretary for Research and Technology, Office of the Secretary of Transportation, ttac@dot.gov, (202) 941-6180.

SUPPLEMENTARY INFORMATION: Certain content published on July 12, 2024 in the Notice To Renew the Transforming Transportation Advisory Committee (TTAC) should be disregarded. The sections of that notice titled “Current Charter of the Transforming Transportation Advisory Committee” and “Redline Comparison of Changes Made to the Charter of the Transforming Transportation Advisory Committee” were included in error. The current charter of the Transforming Transportation Advisory Committee is available at https://www.transportation.gov/ttac. All other information in the notice remains valid.

Issued in Washington, DC, on July 19, 2024, under authority delegated at 49 CFR 1.25a.
Benjamin Ross Levine,
Director of Strategic Initiatives.

[FR Doc. 2024-16324 Filed 7-24-24; 8:45 am]

BILLING CODE 4910-9X-P